SMALL BUSINESS ADMINISTRATION

[Disaster Declaration #16571 and #16572; Pennsylvania Disaster Number PA-00106]

Administrative Declaration of a Disaster for the Commonwealth of Pennsylvania

AGENCY: Small Business Administration.

ACTION: Notice.

SUMMARY: This is a notice of an Administrative declaration of a disaster for the Commonwealth of Pennsylvania dated 08/07/2020. Incident: Civil Unrest. Incident Period: 05/30/2020 through 06/08/2020.

DATES: Issued on 08/07/2020.

Physical Loan Application Deadline Date: 10/06/2020.

Economic Injury (EIDL) Loan Application Deadline Date: 05/07/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Philadelphia

Contiguous Counties:

Pennsylvania: Bucks, Delaware, Montgomery.

New Jersey: Burlington, Camden, Gloucester.

The Interest Rates are:

| Percent
For Physical Damage:
Homeowners With Credit Available Elsewhere | 2.500
Homeowners Without Credit Available Elsewhere | 1.250
Businesses With Credit Available Elsewhere | 6.000
Businesses Without Credit Available Elsewhere | 3.000
Non-Profit Organizations With Credit Available Elsewhere | 2.750
Non-Profit Organizations Without Credit Available Elsewhere | 2.750
For Economic Injury:
Businesses & Small Agricultural Cooperatives Without Credit Available Elsewhere | 3.000
Non-Profit Organizations Without Credit Available Elsewhere | 2.750

The number assigned to this disaster for physical damage is 16571 F and for economic injury is 16572 0.

The States which received an EIDL Declaration # are Pennsylvania, New Jersey.

(Catalog of Federal Domestic Assistance Number 59008)

Jovita Carranza,
Administrator.

[FR Doc. 2020-17706 Filed 8-12-20; 8:45 am]

BILLING CODE 8026-03-P